NATIONAL SCIENCE FOUNDATION

Advisory Committee for Environmental Research and Education; Notice of Meeting

In accordance with the Federal Advisory Committee Act (Pub. L. 92-463, as amended), the National Science Foundation (NSF) announces the following meeting:

Name and Committee Code: Advisory Committee for Environmental Research and Education (9487).

Date and Time: April 19, 2022; 11:00 a.m.-5:30 p.m. (EDT), April 20, 2022; 11:00 a.m.-4:00 p.m. (EDT).

Place: National Science Foundation, 2415 Eisenhower Avenue, Room E 2020, Alexandria, VA 22314 | Virtual.

Registration for the virtual meeting can be accessed at: https://nsf.zoomgov.com/meeting/register/vJIsduytqTMsEg8W7iTzUbYliGfTpaW8cNM.

Type of Meeting: Open.

Contact Person: Dr. Arnoldo Valle-Levinson, Staff Associate, Office of Integrative Activities/Office of the Director/National Science Foundation, 2415 Eisenhower Avenue, Alexandria, VA 22314; (email: avellele@nsf.gov; Telephone: (703) 292-7946).

Summary of Minutes: May be obtained from the AC ERE website: https://www.nsf.gov/ere/ereweb/minutes.jsp.

Purpose of Meeting: To provide advice, recommendations, and oversight concerning support for environmental research and education.

Agenda: Approval of minutes from past meeting. Updates on agency support for environmental research and activities. Discussion with NSF Director and Assistant Directors. Plan for future advisory committee activities. Updated agenda will be available on the AC ERE website: https://www.nsf.gov/ere/ereweb/minutes.jsp.

Dated: March 10, 2022.
Crystal Robinson,
Committee Management Officer.

[FR Doc. 2022-05456 Filed 3-14-22; 8:45 am]

BILLING CODE 7555-01-P